DEPARTMENT OF STATE

[Public Notice 5715]

60-Day Notice of Proposed Information Collection: DS 4079, Questionnaire—Information for Determining Possible Loss of United States Citizenship, New-OMB No. 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Questionnaire: Information for Determining Possible Loss of United States Citizenship.

• OMB Control Number: New-OMB No. 1405-XXXX.

• Type of Request: New Information Collection.

• Originating Office: Bureau of Consular Affairs, Overseas Citizens Services (CA/OCS).

• Form Number: DS 4079.

• Respondents: United States Citizens.

• Estimated Number of Respondents: 2,298.

• Estimated Number of Responses: 2,298.

• Average Hours Per Response: 15 minutes.

• Total Estimated Burden: 575 hours.

• Frequency: On Occasion.

• Obligation to Respond: Required to obtain or retain benefits.

DATES: The Department will accept comments from the public up to 60 days from May 7, 2007.

ADDRESSES: You may submit comments by any of the following methods:

• E-mail: ASKPRI@state.gov.

• Mail (paper, disk, or CD-ROM submissions): U.S. Department of State, CA/OCS/PRI, SA-29, 4th Floor, Washington, DC 20520.

• Fax: 202-736-9111.

• Hand Delivery or Courier: U.S. Department of State, CA/OCS/PRI, 2100 Pennsylvania Avenue, 4th Floor, Washington, DC 20037.

You must include the DS form number (if applicable), information collection title, and OMB control number in any correspondence.

FOR FURTHER INFORMATION CONTACT: Direct requests for additional information regarding the collection listed in this notice, including requests for copies of the proposed information collection and supporting documents, to Derek A. Rivers, Bureau of Consular Affairs, Overseas Citizens Services (CA/OCS/PRI), U.S. Department of State, SA-29, 4th Floor, Washington, DC 20520, who may be reached on (202) 736-9082 or ASKPRI@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The purpose of the DS-4079 questionnaire is to determine current citizenship status and the possibility of loss of United States citizenship. The information provided in the questionnaire assists consular officers and the Department of State in determining if the U.S. citizen has lost his or her nationality by voluntarily performing an expatriating act with the intention of relinquishing United States nationality.

Methodology: The information is collected in person, by fax, or via mail. The Bureau of Consular Affairs is currently exploring options to make this information collection available electronically.

Dated: February 15, 2007.
Maura Harty,
Assistant Secretary, Bureau of Consular Affairs, Department of State.

[FR Doc. E7-4160 Filed 3-7-07; 8:45 am]

BILLING CODE 4710-06-P